DEPARTMENT OF TRANSPORTATION

Federal Aviation Administration

Environmental Impact Statement: Theodore Francis Green Airport, Warwick, RI

AGENCY: Federal Aviation Administration (FAA), DOT.

ACTION: Notice of Availability.

SUMMARY: The FAA is issuing this notice to advise the public that a Record of Decision (ROD), resulting from an Environmental Impact Statement (EIS) has been prepared for Theodore Francis Green Airport, in Warwick, Rhode Island.

FOR FURTHER INFORMATION CONTACT: Richard Doucette, Environmental Program Manager, Federal Aviation Administration New England, 12 New England Executive Park, Burlington, MA. Telephone (781) 238-7613.

SUPPLEMENTARY INFORMATION: The FAA is making available a ROD regarding installation of runway safety areas, other safety improvements, a runway extension, and other efficiency improvements at Theodore Francis Green Airport, in Warwick, Rhode Island. The ROD documents the final Agency decisions regarding the proposed projects as described and analyzed in the EIS. The ROD is available for review during normal business hours at the following locations: FAA New England Region, Airports Division, 16 New England Executive Park, Burlington, Massachusetts (781) 238-7613, Theodore Francis Green Airport, 2000 Post Rd, Warwick, Rhode Island, and at public libraries in Warwick and Cranston, Rhode Island.

Issued on: September 23, 2011.
Bryon H. Rakoff,
Acting Manager, Airports Division.

[FR Doc. 2011-25414 Filed 9-30-11; 8:45 am]

BILLING CODE 4910-13-P